DEPARTMENT OF HOMELAND SECURITY

Coast Guard

33 CFR Part 165

[Docket Number USCG-2024-0254]

RIN 1625-AA87

Security Zones; 2024 Republican National Convention; Lake Michigan, Milwaukee Harbor, Kinnickinnic River, Menomonee River and Milwaukee River, Milwaukee, WI

AGENCY: Coast Guard, DHS.

ACTION: Temporary final rule.

SUMMARY: The Coast Guard is establishing temporary security zones and a safety zone for navigable waters within Lake Michigan, Milwaukee Harbor, Kinnickinnic River, Menomonee River, and Milwaukee River during the 2024 Republican National Convention. These actions are necessary to protect convention delegates, official parties, dignitaries, the public and surrounding waterways from terrorist acts, sabotage or other subversive acts, accidents, or other causes of a similar nature. Entry of vessels or persons into these zones is prohibited unless specifically authorized by the Captain of the Port Sector Lake Michigan or designated representative.

DATES: This rule is effective from 8 a.m. on July 13, 2024, to 3 a.m. on July 19, 2024. All Security Zones will be enforced as needed with actual notice.

ADDRESSES: To view documents mentioned in this preamble as being available in the docket, go to https://www.regulations.gov, type USCG-2024-0254 in the search box and click “Search.” Next, in the Document Type column, select “Supporting & Related Material.”

FOR FURTHER INFORMATION CONTACT: If you have questions about this proposed rulemaking, call or email Chief Petty Officer Aaron Sunstrom, Sector Lake Michigan Waterways Management Division, U.S. Coast Guard; telephone 770-527-3964, email Aaron.R.Sunstrom@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard is issuing this temporary rule under authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule due to it being impracticable and contrary to the public interest. Due to the sensitive security issues related to the Republican National Convention, providing a public notice and comment period would be contrary to the security zone's intended objective of protecting VIPs and the public because we cannot share the sensitive security information details prior to the rule being published.

Also, under 5 U.S.C. 553(d)(3), the Coast Guard finds that good cause exists for making this rule effective less than 30 days after publication in the Federal Register. Delaying the effective date by first publishing an NPRM and holding a comment period would be contrary to the rule's objectives of ensuring safety of life on the navigable waters and protection of the Republican National Convention and accompanying high-ranking government officials.

III. Legal Authority and Need for Rule

The Coast Guard may issue security zone regulations under authority in 46 U.S.C. 70051 and 70124. The Captain of the Port, Sector Lake Michigan has determined that these temporary security zones are necessary to provide for the security of the Republican National Convention and the accompanying high-ranking government officials, and to protect against sabotage or terrorist attacks to human life, vessels, mariners, and waterfront venues at or near this event.

Additionally, the Coast Guard believes that, given the nature of the First Amendment activity expected and likely type of vessels used by individuals desiring to express their First Amendment rights—namely kayaks and other small vessels—a safety zone designating a voluntary First Amendment Area is necessary to ensure the safety of those vessels and persons who chose to express their views safely and without interference from, or interfering with, other maritime traffic.

IV. Discussion of the Rule

The Republican National Convention will take place in Milwaukee, WI from July 13, 2024, until July 19, 2024. The Secretary of the Department of Homeland Security has designated the 2024 Republican National Convention as a National Special Security Event (NSSE). NSSE's are significant events, which, due to their political, economic, social, or religious significance, may render them particularly attractive targets of terrorism or other criminal activity. The Federal government provides support, assistance, and resources to state and local governments to ensure public safety and security during NSSE's.

During this NSSE many high-ranking government officials will be arriving in Milwaukee, WI. The Coast Guard is establishing several security zones and a safety zone in portions of Lake Michigan, Milwaukee Harbor, Kinnickinnic River, Menomonee River, and Milwaukee River in Milwaukee, WI. Voluntary First Amendment Safety Zone 1 includes all waters of Lake Michigan within Milwaukee Harbor north of Discovery World. The area is enclosed by a line connecting the following points: starting at 43 02.62′ N, 087 52.83′ W, then west to 43 02.62′ N, 087 53.21′ W, then southwest to 43 02.55′ N, 087 53.70′ W, then south to 43 02.40′ N, 087 53.76′ W, then southeast to 43 02.35′ N, 087 52.91′ W, then northeast to origin. This zone will be enforced intermittently as necessary for the entire duration of the event.

Security Zone 2 includes all waters of the Milwaukee River between the Cherry Street Bridge and the Michigan Street Bridge. This zone will be enforced intermittently as necessary for the entire duration of the event as well as continuously from 8:00 a.m. on July 14, 2024, through 3:00 a.m. on July 19, 2024.

• No commercial or recreational vessel traffic will be permitted.

• Road bridges on the Milwaukee River between Cherry Street and Michigan Street will remain in the down position.

• Privately-owned vessels that are docked at the registered owners' places of domicile within the maritime security zone on the Milwaukee River between Cherry Street and Michigan Street may transit the river so long as their vessels do not require the raising of road bridges. Prior to departure from the dock and re-entry into the maritime security zone, the vessel owner must contact the USCG on channel 16 to request an escort.

○ If a privately-owned vessel that is docked within the maritime security zone departs the maritime security zone, it will be subject to screening prior to re-entry into the maritime security zone.

• All vessels docked within the maritime security zone may remain stationary. Pedestrian screening is not required to access stationary boats within the maritime security zone.

Security Zone 3 includes all waters of the Milwaukee River between the North Humboldt Avenue Bridge and the Cherry Street Bridge. This zone will be enforced intermittently as necessary for the entire duration of the event.

Security Zone 4 includes all waters of the Milwaukee River from the confluence with the Menomonee River at 43 01.92′ N, 087 54.66′ W then north to the Michigan Street Bridge. This zone will be enforced intermittently as necessary for the entire duration of the event.

Security Zone 5 includes all waters of the Milwaukee River from the confluence with the Kinnickinnic River at 43 01.50′ N, 087 54.18′ W, then northwest to confluence with Menomonee River at 43 01.92′ N, 087 54.66′ W. This zone will be enforced intermittently as necessary for the entire duration of the event.

Security Zone 6 includes all waters of the Milwaukee River in the vicinity of the Daniel W. Hoan Bridge. The area is enclosed by a line connecting the following points: starting at 43 01.542′ N, 087 54.127′ W, then east to 43 01.554′ N, 087 53.757′ W, then south to 43 01.511′ N, 087 53.689′ W, then west to 43 01.443′ N 087 54.111′ W, then north to origin. This zone will be enforced intermittently as necessary for the entire duration of the event as well as continuously from 3:00 p.m. on July 14, 2024, through 11:59 p.m. on July 14, 2024. Vessels greater than or equal to 65 feet are prohibited from entry into, transiting, or anchoring within this security zone unless authorized by the Captain of the Port Lake Michigan or a designated representative. Vessels less than or equal to 64 feet may transit through this security zone but are prohibited from anchoring or loitering; the Captain of the Port Lake Michigan or a designated representative reserves the right to prohibit vessels less than or equal to 64 feet from transiting the security zone as operations dictate.

Security Zone 7 includes all waters of the Menomonee River from the confluence with the Milwaukee River at 43 01.92′ N, 087 54.66′ W, then west to include the following: the Menomonee River to the North Emmber Lane Bridge at 43 01.98′ N, 087 55.74′ W; the entire South Menomonee Canal ending at 43 01.68′ N, 087 55.74′ W; and the entire Burnham Canal ending at 43 01.56′ N, 087 55.86′ W. This zone will be enforced intermittently as necessary for the entire duration of the event.

Security Zone 8 includes all waters of Lake Michigan within Milwaukee Harbor, including the Lakeshore State Park Inlet and Discovery World Lagoon; the area is enclosed by a line connecting the following points: Starting at 43 02.276′ N, 087 53.705′ W, then northeast to 43 02.311′ N, 087 53.319′ W, then south to 43 01.601′ N, 087 53.323′ W, then west to 43 01.560′ N, 087 53.717′ W, then north to origin. This zone will be enforced intermittently as necessary for the entire duration of the event as well as continuously from 8:00 a.m. on July 13, 2024, through 11:59 p.m. on July 14, 2024.

Security Zone 9 includes all waters of Lake Michigan within Milwaukee Harbor enclosed by a line connecting the following points: Starting at 43 01.74′ N, 087 53.07′ W, then southwest to 43 01.56′ N, 087 53.76′ W, then southwest to 43 01.23′ N, 087 53.86′ W, then southeast to 43 00.02′ N, 087 53.28′ W, then northeast to 43 00.49′ N, 087 52.58′ W, then northwest to origin. This zone will be enforced intermittently as necessary for the entire duration of the event.

Security Zone 10 includes all waters of the Kinnickinnic River from the confluence with the Milwaukee River at 43 01.50′ N, 087 54.18′ W then south to the West Becher Street Bridge.

The security zones and accompanying security measures have been specifically developed to protect convention delegates, official parties, dignitaries, the public and surrounding waterways from terrorist acts, sabotage or other subversive acts, accidents, or other causes of a similar nature. No vessel or person will be permitted to enter the security zones unless specifically authorized by the Captain of the Port Sector Lake Michigan or designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration, and time of year of the security zone and safety zone. The zones will impact a small, designated area and will be enforced only during the event and event-related activities. The security zones and safety zone will be in a location where commercial vessel traffic is expected to be minimal during enforcement; commercial vessel traffic will be authorized to transit the security zones to the extent compatible with public safety and security. Persons and vessels will be able to operate in the surrounding area adjacent to the security zones and safety zone during the enforcement period and will be able to enter within the security zones if authorized by the Captain of the Port Lake Michigan or a designated representative. Moreover, the Coast Guard will issue Broadcast Notice to Mariners via VHF-FM marine channel 16 identifying the continuously and intermittently security zone locations, maritime restrictions, and enforcement dates.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves three security zones which will be enforced for a span of several days between July 13, 2024, through July 19, 2024, that will prohibit entry within certain waters of the Milwaukee River and Milwaukee Harbor. It is categorically excluded from further review under paragraph L60(c) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.T09-0254 to read as follows:

§ 165.T09-0254 Security Zones; 2024 Republican National Convention; Lake Michigan and Milwaukee River, Milwaukee, WI

(a) Location. The following areas are security zones or safety zones:

(1) Voluntary First Amendment Safety Zone 1: includes all waters of Lake Michigan within Milwaukee Harbor north of Discovery World. The area is enclosed by a line connecting the following points: starting at 43 02.62′ N, 087 52.83′ W, then west to 43 02.62′ N, 087 53.21′ W, then southwest to 43 02.55′ N, 087 53.70′ W, then south to 43 02.40′ N, 087 53.76′ W, then southeast to 43 02.35′ N, 087 52.91′ W, then northeast to origin.

(2) Security Zone 2: includes all waters of the Milwaukee River between the Cherry Street Bridge and the Michigan Street Bridge.

(i) No commercial or recreational vessel traffic will be permitted on the Milwaukee River between Cherry St. and Michigan St.

(ii) Road bridges on the Milwaukee River between Cherry St. and Michigan St. will remain in the down position.

(iii) Privately-owned vessels that are docked at the registered owners' places of domicile within the maritime security zone on the Milwaukee River between Cherry Street and Michigan Street may transit the river so long as their vessels do not require the raising of road bridges. Prior to departure from the dock and re-entry into the maritime security zone, the vessel owner must contact the USCG on channel 16 to request an escort.

(iv) If a privately-owned vessel that is docked within the maritime security zone departs the maritime security zone, it will be subject to screening prior to re-entry into the maritime security zone.

(v) All vessels docked within the maritime security zone may remain stationary. Pedestrian screening is not required to access stationary boats within the maritime security zone.

(3) Security Zone 3: includes all waters of the Milwaukee River between the North Humboldt Avenue Bridge and the Cherry Street Bridge.

(4) Security Zone 4: includes all waters of the Milwaukee River from the confluence with the Menomonee River at 43 01.92′ N, 087 54.66′ W then north to the Michigan Street Bridge.

(5) Security Zone 5: includes all waters of the Milwaukee River from the confluence with the Kinnickinnic River at 43 01.50′ N, 087 54.18′ W, then northwest to confluence with Menomonee River at 43 01.92′ N, 087 54.66′ W.

(6) Security Zone 6: includes all waters of the Milwaukee River in the vicinity of the Daniel W. Hoan Bridge. The area is enclosed by a line connecting the following points: starting at 43 01.542′ N, 087 54.127′ W, then east to 43 01.554′ N, 087 53.757′ W, then south to 43 01.511′ N, 087 53.689′ W, then west to 43 01.443′ N 087 54.111′ W, then north to origin. Vessels greater than or equal to 65 feet are prohibited from entry into, transiting, or anchoring within this security zone unless authorized by the Captain of the Port Lake Michigan or a designated representative. Vessels less than or equal to 64 feet may transit through this security zone but are prohibited from anchoring or loitering; the Captain of the Port Lake Michigan or a designated representative reserves the right to prohibit vessels less than or equal to 64 feet from transiting the security zone as operations dictate.

(7) Security Zone 7: includes all waters of the Menomonee River from the confluence with the Milwaukee River at 43 01.92′ N, 087 54.66′ W, then west to include the following: The Menomonee River to the North Emmber Lane Bridge at 43 01.98′ N, 087 55.74′ W; The entire South Menomonee Canal ending at 43 01.68′ N, 087 55.74′ W; and the entire Burnham Canal ending at 43 01.56′ N, 087 55.86′ W.

(8) Security Zone 8: includes all waters of Lake Michigan within Milwaukee Harbor including the Lakeshore State Park Inlet and Discovery World Lagoon. The area is enclosed by a line connecting the following points: Starting at 43 02.276′ N, 087 53.705′ W, then northeast to 43 02.311′ N, 087 53.319′ W, then south to 43 01.601′ N, 087 53.323′ W, then west to 43 01.560′ N, 087 53.717′ W, then north to origin.

(9) Security Zone 9: includes all waters of Lake Michigan within Milwaukee Harbor. The area is enclosed by a line connecting the following points: Starting at 43 01.74′ N, 087 53.07′ W, then southwest to 43 01.56′ N, 087 53.76′ W, then southwest to 43 01.23′ N, 087 53.86′ W, then southeast to 43 00.02′ N, 087 53.28′ W, then northeast to 43 00.49′ N, 087 52.58′ W, then northwest to origin.

(10) Security Zone 10: includes all waters of the Kinnickinnic River from the confluence with the Milwaukee River at 43 01.50′ N, 087 54.18′ W then south to the West Becher Street Bridge.

(b) Enforcement period. This rule is effective from 8:00 a.m. on July 13, 2024, to 3:00 a.m. on July 19, 2024. The Coast Guard will issue Broadcast Notice to Mariners via VHF-FM marine channel 16 identifying the continuously and intermittently security zone locations, maritime restrictions, and enforcement dates.

(1) Voluntary First Amendment Safety Zone 1 will be enforced intermittently, as necessary from 8 a.m. on July 13, 2024, to 1 a.m. on July 19, 2024.

(2) Security Zone 2 through 10 will be enforced intermittently, as necessary from 8 a.m. on July 13, 2024, to 1 a.m. on July 19, 2024.

(3) Security Zone 2 will be enforced continuously from 8 a.m. on July 14, 2024, through 3 a.m. on July 19, 2024.

(4) Security Zone 6 will be enforced continuously from 3 p.m. on July 14, 2024, through 11:59 p.m. on July 14, 2024.

(5) Security Zone 8 will be enforced continuously from 8 a.m. on July 13, 2024, through 11:59 p.m. on July 14, 2024.

(c) Regulations. (1) In accordance with the general regulations in section § 165.33, entry into, transiting, or anchoring within the security zones described in paragraph (a) of this section is prohibited unless authorized by the Captain of the Port Lake Michigan (COTP) or a designated representative.

(2) The security zones are closed to all vessel traffic, except as may be permitted by the COTP or a designated representative.

(3) The “designated representative” of the COTP is any Coast Guard commissioned, warrant, or petty officer who has been designated by the COTP to act on his or her behalf.

(4) Persons and vessel operators desiring to enter or operate within the security zones must contact the COTP or an on-scene representative to obtain permission to do so. The COTP or an on-scene representative may be contacted via VHF Channel 16. Vessel operators given permission to enter or operate within the security zones must comply with all directions given to them by the COTP or an on-scene representative.

Dated: July 9, 2024.
Joseph B. Parker,
Captain, U.S. Coast Guard, Captain of the Port Lake Michigan.

[FR Doc. 2024-15561 Filed 7-12-24; 4:15 pm]

BILLING CODE 9110-04-P